DEPARTMENT OF ENERGY

Federal Energy Regulatory Commission

[Docket No. EL06-4-000]

Acadia Power Partners, LLC; Cleco Power LLC; Cleco Evangeline LLC; Perryville Energy Partners, LLC; Notice of Institution of Proceeding and Refund Effective Date

October 25, 2005.

On October 21, 2005, the Commission issued an order that instituted a proceeding in Docket No. EL06-4-000, pursuant to section 206 of the Federal Power Act (FPA) 16 U.S.C. 824e, to examine the justness and reasonableness of the Cleco Companies' ¹ market-based rates for the City of Lafayette Power Authority and the Louisiana Energy and Power Authority control areas. Acadia Power Partners, LLC, et al., 113 FERC ¶ 61,073 (2005).

¹ Cleco Power LLC, Cleco Evangeline LLC, Perryville Energy Partners, LLC and Acadia Power Partners LLC.

The refund effective date in Docket No. EL06-4-000, established pursuant to section 206(b) of the FPA, will be the date of publication of this notice in the Federal Register.

Magalie R. Salas,
Secretary.

[FR Doc. E5-6034 Filed 11-1-05; 8:45 am]

BILLING CODE 6717-01-P